SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: October 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABRs Issued

1. Chesapeake Appalachia, LLC, Pad ID: A&M, ABR-201501005, Wilmot Township, Bradford County, Pa.; Rescind Date: October 27, 2016.

2. Chesapeake Appalachia, LLC, Pad ID: Dingo, ABR-201401008, Cherry Township, Sullivan County, Pa.; Rescind Date: October 27, 2016.

3. Chesapeake Appalachia, LLC, Pad ID: Kintner, ABR-201309016, Wilmot Township, Bradford County, Pa.; Rescind Date: October 27, 2016.

4. Chesapeake Appalachia, LLC, Pad ID: Three D Acres, ABR-201301009, Monroe Township, Bradford County, Pa.; Rescind Date: October 27, 2016.

5. Chesapeake Appalachia, LLC, Pad ID: Windswept, ABR-201407002, Auburn Township, Susquehanna County, Pa.; Rescind Date: October 27, 2016.

6. Chesapeake Appalachia, LLC, Pad ID: Packard, ABR-2011050122.R1, Sheshequin Township, Bradford County, Pa.; Rescind Date: October 31, 2016.

Authority: Pub. L. 91-575, 84 Stat. 1509 et seq., 18 CFR parts 806, 807, and 808.

Dated: November 28, 2016.
Stephanie L. Richardson,
Secretary to the Commission.

[FR Doc. 2016-28876 Filed 11-30-16; 8:45 am]

BILLING CODE 7040-01-P